DEPARTMENT OF TRANSPORTATION

Federal Aviation Administration

14 CFR Part 39

[Docket No. FAA-2006-23579; Directorate Identifier 2006-CE-02-AD]

RIN 2120-AA64

Airworthiness Directives; Pacific Aerospace Corporation Ltd. 750XL Airplanes

AGENCY: Federal Aviation Administration (FAA), Department of Transportation (DOT).

ACTION: Notice of proposed rulemaking (NPRM).

SUMMARY: The FAA proposes to supersede Airworthiness Directive (AD) 2005-26-53; Amendment 39-14451, which applies to all Pacific Aerospace Corporation Ltd. (PAC) 750XL airplanes. AD 2005-26-53 currently requires you to insert text into the Limitations Section of the Airplane Flight Manual (AFM) that reduces the maximum takeoff weight from 7,500 pounds to 7,125 pounds. This proposed AD results from mandatory continuing airworthiness information (MCAI) issued by the airworthiness authority for New Zealand and the FAA's decision that the actions correct an unsafe condition. Consequently, this proposed AD would require you to remove rivets that have not been fully age hardened and replace them with bolts, washers, and nuts in specific locations where reduction in rivet strength affects overall structural capability. This proposed AD retains the actions of the previous AD until the rivets are replaced with the bolts, washers, and nuts. We are issuing this proposed AD so that wing ultimate load requirements are met. If wing ultimate load requirements are not met, wing failure could result with subsequent loss of control of the airplane.

DATES: We must receive comments on this proposed AD by April 12, 2006.

ADDRESSES: Use one of the following addresses to comment on this proposed AD:

• DOT Docket Web site: Go to http://dms.dot.gov and follow the instructions for sending your comments electronically.

• Government-wide rulemaking web site: Go to http://www.regulations.gov and follow the instructions for sending your comments electronically.

• Mail: Docket Management Facility; U.S. Department of Transportation, 400 Seventh Street, SW., Nassif Building, Room PL-401, Washington, DC 20590-0001.

• Fax: 1-202-493-2251.

• Hand Delivery: Room PL-401 on the plaza level of the Nassif Building, 400 Seventh Street, SW., Washington, DC, between 9 a.m. and 5 p.m., Monday through Friday, except Federal holidays.

Contact Pacific Aerospace Corporation Ltd., Hamilton Airport, Private Bag HN 3027, Hamilton, New Zealand for the service information identified in this proposed AD.

You may examine the comments on this proposed AD in the AD docket on the Internet at http://dms.dot.gov.

FOR FURTHER INFORMATION CONTACT: Karl Schletzbaum, Aerospace Engineer, FAA, Small Airplane Directorate, 901 Locust, Room 301, Kansas City, Missouri 64106; telephone: (816) 329-4146; facsimile: (816) 329-4090.

SUPPLEMENTARY INFORMATION:

Comments Invited

How do I comment on this proposed AD? We invite you to send any written relevant data, views, or arguments regarding this proposal. Send your comments to an address listed under ADDRESSES. Include the docket number, “FAA-2006-23579; Directorate Identifier 2006-CE-02-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed rulemaking. Using the search function of the DOT docket web site, anyone can find and read the comments received into any of our dockets, including the name of the individual who sent the comment (or signed the comment on behalf of an association, business, labor union, etc.). You may review the DOT's complete Privacy Act Statement in the Federal Register published on April 11, 2000 (65 FR 19477-78) or you may visit http://dms.dot.gov.

Examining the Dockets

Where can I go to view the docket information? You may examine the docket that contains the proposal, any comments received and any final disposition on the Internet at http://dms.dot.gov, or in person at the DOT Docket Offices between 9 a.m. and 5 p.m., Monday through Friday, except Federal holidays. The Docket Office (telephone 1-800-647-5227) is located on the plaza level of the Department of Transportation Nassif Building at the street address stated in ADDRESSES. Comments will be available in the AD docket shortly after the Docket Management Facility receives them.

Discussion

Has FAA taken any action to this point? Some critical rivets that were not fully age-hardened were used in specific locations where the reduction in rivet strength affects the overall structural capability. The unsafe condition caused us to issue AD 2005-26-53, Amendment 39-14451 (71 FR 2453, January 17, 2006). AD 2005-26-53 currently requires you to insert text into the Limitations Section of the Airplane Flight Manual (AFM) that reduces the maximum takeoff weight from 7,500 pounds to 7,125 pounds.

What has happened since AD 2005-26-53 to initiate this proposed AD action? The Civil Aviation Authority (CAA), which is the airworthiness authority for New Zealand, recently notified FAA of the need to change AD 2005-26-53. The CAA reports that the manufacturer has now specified bolts, washers, and nuts to replace the rivets located in critical locations where reduction in rivet strength is critical. After replacing the rivets that have not been fully age hardened with the bolts, washers, and nuts, the wings of these airplanes will meet the ultimate load requirements for a maximum takeoff weight of 7,500 pounds.

What is the potential impact if FAA took no action? This condition, if not corrected, could result in the wing not meeting ultimate load requirements. Wing failure could result with subsequent loss of control of the airplane.

Relevant Service Information

Is there service information that applies to this subject? We have reviewed Pacific Aerospace Corporation, Ltd. Service Bulletin No. PACSB/XL/018 Issue 3, issued December 23, 2005, and amended January 16, 2006.

What are the provisions of this service information? The service information describes procedures for:

• Removing rivets, part number (P/N) MS20470 DD6; and

• installing bolts (P/N NAS 6203-7X or NAS 6203-6X), washers (P/N AN960-10), and nuts (P/N MS21044N3) in place of the rivets.

What action did the CAA take? The CAA classified this service bulletin as mandatory and issued New Zealand AD Number DCA/750XL/7A, dated December 24, 2005, to ensure the continued airworthiness of these airplanes in New Zealand.

Did the CAA inform the United States under the bilateral airworthiness agreement? These PAC Model 750XL airplanes are manufactured in New Zealand and are type-certificated for operation in the United States under the provisions of section 21.29 of the Federal Aviation Regulations (14 CFR 21.29) and the applicable bilateral airworthiness agreement.

Under this bilateral airworthiness agreement, the New Zealand CAA has kept us informed of the situation described above.

FAA's Determination and Requirements of the Proposed AD

Why have we determined AD action is necessary and what would this proposed AD require? We are proposing this AD to address an unsafe condition that we determined is likely to exist or develop on other products of this same type design. This proposed AD would supersede AD 2005-26-53 with a new AD that would require you to remove certain rivets and replace them with bolts, washers, and nuts in specific locations where reduction in rivet strength is critical. This proposed AD would require you to use the service information described previously to perform these actions.

Differences Between This Proposed AD and Service Information

Are there differences between the requirements of this proposed AD and what is contained in the service information? This proposed AD has a different compliance time for the replacement of the rivets than the compliance time in the service information. The requirements of this proposed AD, if adopted as a final rule, would take precedence over the provisions in the service information.

Costs of Compliance

How many airplanes would this proposed AD impact? We estimate that this proposed AD affects 5 airplanes in the U.S. registry.

What would be the cost impact of this proposed AD on owners/operators of the affected airplanes? We estimate the following costs to do this proposed replacement:

Labor cost | Parts cost | Total cost per airplane | Total cost on U.S. operators
32 workhours × $80 per hour = $2,560 | $519 | $3,079 | $15,395

Authority for This Rulemaking

What authority does FAA have for issuing this rulemaking action? Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

Would this proposed AD impact various entities? We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2005-26-53, Amendment 39-14451, and adding the following new airworthiness directive:

Pacific Aerospace Corporation Ltd.: Docket No. FAA-2006-23579; Directorate Identifier 2006-CE-02-AD.

When Is the Last Date I Can Submit Comments on This Proposed AD?

(a) The Federal Aviation Administration (FAA) must receive comments on this proposed airworthiness directive (AD) action by April 12, 2006.

What Other ADs Are Affected by This Action?

(b) This AD supersedes AD 2005-26-53; Amendment 39-14451.

What Airplanes Are Affected by This AD?

(c) This AD affects Model 750XL airplanes, all serial numbers that are certificated in any category.

What Is the Unsafe Condition Presented in This AD?

(d) This AD results from some critical rivets on the wing not being fully age-hardened and being installed in specific locations where reduction in rivet strength reduces wing strength. The actions specified in this AD are intended to ensure wing ultimate load requirements are met. If wing ultimate load requirements are not met, wing failure could result with subsequent loss of control of the airplane.

What Must I Do To Address This Problem?

(e) To address this problem, you must do the following:

Actions | Compliance | Procedures
(1) Insert the following information into the Limitations Section of the Airplane Flight Manual (AFM). You may do this by inserting a copy of this AD into the Limitations Section of the AFM “The maximum takeoff weight is reduced from 7,500 pounds to 7,125 pounds.” | Before further flight after January 16, 2006 (the effective date of AD 2005-26-53), except for those who received emergency AD 2005-26-53, issued December 22, 2005, unless already done. Emergency AD 2005-26-53 contained the requirements of AD 2005-26-53 and became effective immediately upon receipt | The owner/operator holding at least a private pilot certificate as authorized by section 43.7 of the Federal Aviation Regulations (14 CFR 43.7) may do the flight manual changes requirement of this AD. Make an entry in the aircraft records showing compliance with this portion of the AD following section 43.9 of the Federal Aviation Regulations (14 CFR 43.9).
(2) Remove rivets, part number (P/N) MS20470 DD6, and replace with bolts, P/N NAS 6203-7X or NAS 6203-6X; washers, P/N AN960-10; and nuts, P/N MS21044N3 | Within 100 hours time-in-service after the effective date of this AD | Following Pacific Aerospace Corporation Ltd. service bulletin PACSB/XL/018 Issue 3, issued December 23, 2005, and amended January 16, 2006.
(3) Remove the restrictive information from the Limitations Section of the AFM that you were required to insert in paragraph (e)(1) of this AD | After doing the action required in paragraph (e)(2) of this AD | The owner/operator holding at least a private pilot certificate as authorized by section 43.7 of the Federal Aviation Regulations (14 CFR 43.7) may do the flight manual changes requirement of this AD.

May I Request an Alternative Method of Compliance?

(f) The Manager, Standards Office, Small Airplane Directorate, FAA, has the authority to approve alternative methods of compliance (AMOCs) for this AD, if requested using the procedures found in 14 CFR 39.19.

(1) For information on any already approved AMOCs or for information pertaining to this AD, contact Karl Schletzbaum, Aerospace Engineer, FAA, Small Airplane Directorate, 901 Locust, Room 301, Kansas City, Missouri 64106; telephone: (816) 329-4146; facsimile: (816) 329-4090.

(2) AMOCS approved for AD 2005-26-53 are approved for this AD.

Is There Other Information That Relates to This Subject?

(g) New Zealand AD No. DCA/750XL/7A, dated December 24, 2005 and Pacific Aerospace Corporation Ltd. Service Bulletin No. PACSB/XL/018 Issue 3, issued December 23, 2005, amended January 16, 2006 also apply to this AD.

May I Get Copies of the Documents Referenced in this AD?

(h) To get copies of the documents referenced in this AD, contact Pacific Aerospace Corporation Ltd., Hamilton Airport, Private Bag HN3027, Hamilton, New Zealand. To view the AD docket, go to the Docket Management Facility; U.S. Department of Transportation, 400 Seventh Street, SW., Nassif Building, Room PL-401, Washington, DC, or on the Internet at http://dms.dot.gov. The docket number is Docket No. FAA-2005-23579; Directorate Identifier 2006-CE-02-AD.

Issued in Kansas City, Missouri, on March 3, 2006.
David R. Showers,
Acting Manager, Small Airplane Directorate, Aircraft Certification Service.

[FR Doc. E6-3442 Filed 3-9-06; 8:45 am]

BILLING CODE 4910-13-P